DEPARTMENT OF THE INTERIOR

National Park Service

National Register of Historic Places; Notification of Pending Nominations

Nominations for the following properties being considered for listing in the National Register were received by the National Park Service before November 22, 2003. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by December 31, 2003.

Carol D. Shull,
Keeper of the National Register of Historic Places.

CALIFORNIA

Butte County

Forks of Butte, Address Restricted, Paradise, 03001357

Inyo County

Reilly, Address Restricted, Trona, 03001358

Lassen County

Bruff's Rock Petroglyph Site, Address Restricted, Susanville, 03001356

Los Angeles County

Lincoln Park Historic District, Roughly bounded by McKinley Ave., Towne Ave., Pasadena St. and Garey Ave., Pomona, 03001347

San Luis Obispo County

Atascadero Printery, 6351 Olmeda, Atascadero, 03001355

IOWA

Johnson County

Henyon-Kasper—Duffy Barn, 2520 IA 1 NE., Solon, 03001348

Story County

Old Town Historic District, (Home for Science and Technology: Ames, IA MPS) Bet. Duff and Clark Ave., and 7th and 9th Sts., Ames, 03001349

MINNESOTA

Winona County

Winona High School and Winona Junior High School, 166 and 218 W. Broadway St., Winona, 03001350

NEW MEXICO

Dona Ana County

Rio Grande Theatre, 211 N. Downtown Mall, Las Cruces, 03001352

Valencia County

La Capilla de San Antonio de Los Lentes, (Religious Properties of New Mexico MPS) Los Lentes Rd., Los Lentes, 03001351

NEW YORK

Rensselaer County

Petersburgh United Methodist Church, 12 Head of Lane Rd., Petersburgh, 03001354

Sand Lake Baptist Church, 2960 NY 43, Averill Park, 03001353

[FR Doc. 03-30929 Filed 12-15-03; 8:45 am]

BILLING CODE 4312-51-P